DEPARTMENT OF ENERGY

Federal Energy Regulatory Commission

Combined Notice of Filings #1

Take notice that the Commission received the following electric corporate filings:

Docket Numbers: EC19-13-000.

Applicants: AltaGas Renewable Energy Colorado LLC, Black Hills Electric Generation, LLC, Black Hills Corporation, AltaGas Power Holdings (U.S.) Inc.

Description: Joint Application for Authorization Under Section 203 of the Federal Power Act, et al. of AltaGas Renewable Energy Colorado LLC, et. al.

Filed Date: 10/16/18.

Accession Number: 20181016-5173.

Comments Due: 5 p.m. ET 11/6/18.

Take notice that the Commission received the following electric rate filings:

Docket Numbers: ER16-505-004.

Applicants: GridLiance High Plains LLC.

Description: Compliance filing: SCMCN Compliance Filing ER16-505-003 Amendment to be effective 4/1/2016.

Filed Date: 10/17/18.

Accession Number: 20181017-5103.

Comments Due: 5 p.m. ET 11/7/18.

Docket Numbers: ER17-256-006; ER17-242-006; ER17-243-006; ER17-245-006; ER17-652-006.

Applicants: Darby Power, LLC, Gavin Power, LLC, Lawrenceburg Power, LLC, Waterford Power, LLC, Lightstone Marketing LLC.

Description: Notice of Non-Material Change in Status of Darby Power, LLC, et. al.

Filed Date: 10/16/18.

Accession Number: 20181016-5177.

Comments Due: 5 p.m. ET 11/6/18.

Docket Numbers: ER18-730-001.

Applicants: Linden VFT, LLC.

Description: Post-Open Solicitation Compliance Filing, et al. of Linden VFT, LLC.

Filed Date: 10/16/18.

Accession Number: 20181016-5198.

Comments Due: 5 p.m. ET 11/6/18.

Docket Numbers: ER18-1267-004.

Applicants: GridLiance High Plains LLC.

Description: Compliance filing: GridLiance High Plains LLC Compliance Filing ER18-1267 to be effective 3/31/2018.

Filed Date: 10/16/18.

Accession Number: 20181016-5160.

Comments Due: 5 p.m. ET 11/6/18.

Docket Numbers: ER18-1652-002; ER10-1595-011; ER10-1598-011; ER10-1616-011; ER10-1618-011; ER10-2960-009; ER15-356-010; ER15-357-010; ER18-1821-003; ER18-2418-001.

Applicants: AL Mesquite Marketing, LLC, Astoria Generating Company, L.P., Chief Conemaugh Power, LLC, Chief Keystone Power, LLC, Crete Energy Venture, LLC, Great River Hydro, LLC, Lincoln Generating Facility, LLC, New Covert Generating Company, LLC, Rolling Hills Generating, L.L.C., Walleye Power, LLC.

Description: Notice of Non-Material Change in Status of AL Mesquite Marketing, LLC, et al.

Filed Date: 10/16/18.

Accession Number: 20181016-5178.

Comments Due: 5 p.m. ET 11/6/18.

Docket Numbers: ER19-119-000.

Applicants: Techren Solar I LLC.

Description: Baseline eTariff Filing: Application for MBR, Waivers, Blanket Authority, Confidential & Expedited Action to be effective 12/31/9998.

Filed Date: 10/16/18.

Accession Number: 20181016-5141.

Comments Due: 5 p.m. ET 11/6/18.

Docket Numbers: ER19-120-000.

Applicants: Florida Power & Light Company.

Description: § 205(d) Rate Filing: FPL and WM Renewable Energy, LLC Firm P-to-P TSA to be effective 10/17/2018.

Filed Date: 10/16/18.

Accession Number: 20181016-5159.

Comments Due: 5 p.m. ET 11/6/18.

Docket Numbers: ER19-121-000.

Applicants: AltaGas Renewable Energy Colorado LLC, Black Hills Electric Generation, LLC.

Description: § 205(d) Rate Filing: Request for Authorization of Affiliate Transactions of AltaGas and Black Hills to be effective 11/30/2018.

Filed Date: 10/16/18.

Accession Number: 20181016-5165.

Comments Due: 5 p.m. ET 11/6/18.

Docket Numbers: ER19-122-000.

Applicants: ISO New England Inc., The Connecticut Light and Power Company.

Description: § 205(d) Rate Filing: CL&P Request for Approval of Updated Depreciation Rates & Revisions to Sch 21-ES to be effective 5/1/2018.

Filed Date: 10/17/18.

Accession Number: 20181017-5035.

Comments Due: 5 p.m. ET 11/7/18.

Docket Numbers: ER19-123-000.

Applicants: ISO New England Inc., NSTAR Electric Company.

Description: § 205(d) Rate Filing: NSTAR Electric Company Request for Approval of Updated Depreciation Rates to be effective 7/1/2018.

Filed Date: 10/17/18.

Accession Number: 20181017-5036.

Comments Due: 5 p.m. ET 11/7/18.

Docket Numbers: ER19-124-000.

Applicants: PECO Energy Company, PJM Interconnection, L.L.C.

Description: § 205(d) Rate Filing: PECO Energy submits revisions to OATT, Att. H-7A re: Stipulation in ER17-1519 to be effective 12/1/2017.

Filed Date: 10/17/18.

Accession Number: 20181017-5037.

Comments Due: 5 p.m. ET 11/7/18.

Docket Numbers: ER19-125-000.

Applicants: Duke Energy Florida, LLC.

Description: Tariff Cancellation: DEF-US EcoGen Notice of Termination SA-180 (LGIA) to be effective 12/17/2018.

Filed Date: 10/17/18.

Accession Number: 20181017-5075.

Comments Due: 5 p.m. ET 11/7/18.

Docket Numbers: ER19-126-000.

Applicants: Midcontinent Independent System Operator, Inc.

Description: § 205(d) Rate Filing: 2018-10-17_SA 3179 Long Branch Solar-Cooperative Energy GIA (J709) to be effective 10/2/2018.

Filed Date: 10/17/18.

Accession Number: 20181017-5105.

Comments Due: 5 p.m. ET 11/7/18.

Take notice that the Commission received the following electric reliability filings:

Docket Numbers: RR19-1-000.

Applicants: North American Electric Reliability Corporation.

Description: Petition of the North American Electric Reliability Corporation for Approval of Proposed Revisions to Appendix 4E to the Rules of Procedure.

Filed Date: 10/16/18.

Accession Number: 20181016-5192.

Comments Due: 5 p.m. ET 11/6/18.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: October 17, 2018.
Nathaniel J. Davis, Sr.,
Deputy Secretary.

[FR Doc. 2018-23130 Filed 10-22-18; 8:45 am]

BILLING CODE 6717-01-P